DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Comparing Health Insurance Measurement Error (CHIME).

OMB Control Number: 0607-XXXX.

Form Number(s): No forms; respondent information collected by telephone interview.

Type of Request: Regular submission.

Number of Respondents: 5,000 Households.

Average Hours per Response: 13 minutes.

Burden Hours: 3,028 hours.

Needs and Uses: The goal of the study is to assess measurement error in health coverage estimates that is ascribable to the questionnaire across the CPS and ACS health insurance modules using administrative records as a truth source. Both “absolute” reporting accuracy (the survey report compared to the administrative record data) and “relative” reporting accuracy (comparing absolute accuracy across questionnaire treatments) will be evaluated. The analysis will be used to understand the magnitude, direction and patterns of misreporting for three main purposes: (1) To provide Census program staff with empirical data to develop and refine edits and/or to include research notes for data users so they can make their own adjustments for misreporting; (2) to equip the wider research community with information that could serve as a guide for deciding which among the various surveys best suits their needs; and (3) to contribute to the general survey methods research literature on measurement error. Analysis will also inform reporting accuracy of health coverage related to the Affordable Care Act (ACA). Specifically, for coverage that is known to be obtained from the marketplace, we will explore whether respondents report that coverage, the source they cite (direct-purchase, government, etc.), and the accuracy with which they answer a question on subsidized premiums.

Affected Public: Individuals or households.

Frequency: One time.

Respondent's Obligation: Voluntary.

Legal Authority: Title 13, United States Code, sections 141, 182 and 193.

This information collection request may be viewed at www.reginfo.gov. Follow the instructions to view Department of Commerce collections currently under review by OMB.

Written comments and recommendations for the proposed information collection should be sent within 30 days of publication of this notice to OIRA_Submission@omb.eop.gov or fax to (202)395-5806.

Dated: April 8, 2015.
Glenna Mickelson,
Management Analyst, Office of the Chief Information Officer.

[FR Doc. 2015-08473 Filed 4-13-15; 8:45 am]

BILLING CODE 3510-07-P